DEPARTMENT OF ENERGY

Federal Energy Regulatory Commission

Notice of Commission Staff Attendance

The Federal Energy Regulatory Commission hereby gives notice that members of the Commission's staff may attend the following meetings related to the transmission planning activities of the PJM Interconnection, L.L.C. (PJM):

Combined PJM Regional Transmission Planning Task Force/PJM Interconnection Process Senior Task Force

May 21, 2012, 9:30 a.m.-3:00 p.m., Local Time

June 8, 2012, 9:30 a.m.-3:00 p.m., Local Time

June 29, 2012, 9:30 a.m.-3:00 p.m., Local Time

July 19, 2012, 9:30 a.m.-3:00 p.m., Local Time

The above-referenced meetings will be held at: The Chase Center on the Riverfront, Wilmington, DE, or The PJM Conference & Training Center, Norristown, PA.

The above-referenced meetings are open to stakeholders.

Further information may be found at www.pjm.com.

The discussions at the meeting described above may address matters at issue in the following proceedings:

Docket No. EL05-121, PJM Interconnection, L.L.C.

Docket No. ER06-456, ER06-954, ER06-1271, ER07-424, ER06-880, EL07-57, ER07-1186, ER08-229, ER08-1065, ER09-497, and ER10-268, PJM Interconnection, L.L.C.

Docket No. ER10-253 and EL10-14, Primary Power, L.L.C.

Docket No. EL10-52, Central Transmission, LLC v. PJM Interconnection, L.L.C.

Docket No. ER11-4070, RITELine Indiana et. al.

Docket No. ER11-2875 and EL11-20, PJM Interconnection, L.L.C.

Docket No. ER09-1256, Potomac-Appalachian Transmission Highline, L.L.C.

Docket No. ER09-1589, FirstEnergy Service Company

Docket No. EL11-56, FirstEnergy Service Company

Docket No. ER11-1844, Midwest Independent Transmission System Operator, Inc.

Docket No. ER12-718, New York Independent System Operator, Inc.

Docket No. ER12-1177, PJM Interconnection, L.L.C.

Docket No. ER12-1178, PJM Interconnection, L.L.C.

Docket No. ER12-1693, PJM Interconnection, L.L.C.

For more information, contact Jonathan Fernandez, Office of Energy Market Regulation, Federal Energy Regulatory Commission at (202) 502-6604 or jonathan.fernandez@ferc.gov.

Dated: May 11, 2012.
Nathaniel J. Davis, Sr.,
Deputy Secretary.

[FR Doc. 2012-12148 Filed 5-18-12; 8:45 am]

BILLING CODE 6717-01-P